DEPARTMENT OF COMMERCE

National Oceanic and Atmospheric Administration

RIN 0648-XE40

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a joint meeting of The Standing and Special Reef Fish Scientific and Statistical Committees (SSC).

DATES: The Joint Standing and Special Reef Fish SSC meeting will begin at 1:30 p.m. on Wednesday, January 9, 2008 and conclude by 12 noon on Thursday, January 10, 2008.

ADDRESSES: The meeting will be held at the Hilton Hobby, 8181 Airport Blvd., Houston, TX 77061.

Council address: Gulf of Mexico Fishery Management Council, 2203 North Lois Avenue, Suite 1100, Tampa, FL 33607.

FOR FURTHER INFORMATION CONTACT: Dr. Richard Leard, Deputy Executive Director; Gulf of Mexico Fishery Management Council; telephone: (813) 348-1630.

SUPPLEMENTARY INFORMATION: The Joint Standing and Special Reef Fish SSC will review a Generic Amendment for Offshore Aquaculture that contains provisions for allowing and regulating potential offshore aquaculture operations in the Exclusive Economic Zone (EEZ) of the Gulf of Mexico. The SSCs will also review Amendment 30B to the Reef Fish FMP that contains provisions for potential additional regulations on gag and potentially reducing regulations on red grouper in the EEZ Gulf of Mexico. Finally, the SSCs may also discuss potential adjustments to the deep-water grouper and tilefish total allowable catch levels (TACs).

Copies of the agenda and other related materials can be obtained by calling (813) 348-1630.

Although other non-emergency issues not on the agenda may come before the SSCs for discussion, in accordance with the Magnuson-Stevens Fishery Conservation and Management Act (Magnuson-Stevens Act), those issues may not be the subject of formal action during this meeting. Actions of the SSCs will be restricted to those issues specifically identified in the agenda and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Tina Trezza at the Council (see ADDRESSES) at least 5 working days prior to the meeting.

Dated: December 13, 2007.
Tracey L. Thompson,
Acting Director, Office of Sustainable Fisheries, National Marine Fisheries Service.

[FR Doc. E7-24449 Filed 12-17-07; 8:45 am]

BILLING CODE 3510-22-S